NATIONAL AERONAUTICS AND SPACE ADMINISTRATION

Open Forum Meeting on Procurement Policies, Practices, and Initiatives

AGENCY: National Aeronautics and Space Administration.

ACTION: Notice of meeting.

SUMMARY: NASA will conduct an open forum meeting to solicit questions, views and opinions of interested persons or firms concerning NASA's procurement policies, practices, and initiatives. The purpose of the meeting is to have an open discussion between NASA's Associate Administrator for Procurement, industry, and the public. Note: This is not a meeting about doing business with NASA for new firms, nor does it focus particularly on small businesses or specific contracting opportunities.

DATE: Tuesday, January 23, 2001, from 2:00 p.m. to 4:00 p.m.

ADDRESSES: The meeting will be held at the NASA Goddard Space Flight Center, Bldg. 26, Room 205, Greenbelt, MD 20771. Entrance to the facility is from the Main Gate on Greenbelt Road, MD Route 193.

TO RESERVE A SEAT OR FOR FURTHER INFORMATION CONTACT: Debbie Hollebeke [301-286-9208] or Sherry Pollock [301-286-9511], NASA Goddard Space Flight Center, Mail Code 200, Greenbelt, MD 20771. Interested attendees must RSVP no later than Tuesday, January 16, 2001. Reservations must be made by phone. Auditorium capacity is limited to approximately 120 persons; therefore, attendance is limited to a maximum of two representatives per firm.

SUPPLEMENTARY INFORMATION:

Admittance

Attendees must be a U.S. Citizen or have a valid green card in their possession. Doors will open at 1:30 p.m.

Format

There will be a presentation by the Associate Administrator for Procurement, followed by a question and answer period. Procurement issues will be discussed, including NASA's newest initiatives used in the award and administration of contracts. Questions for the open forum should be presented at the meeting and should not be submitted in advance. Position papers are not being solicited.

Initiatives

In addition to the general discussion mentioned above, NASA invites comments or questions relative to its ongoing Procurement Innovations, some of which include, but are not limited to, the following:

Focus on Safety & Health: This ensures that contractors take all reasonable safety and occupational health measures in performing NASA contracts.

Risk-Based Acquisition Management: This initiative seeks to integrate the principles of risk management throughout the acquisition process by purposefully considering the various aspects of risk when developing the acquisition strategy, selecting sources, choosing contract type, structuring fee incentives, and conducting contractor surveillance.

Consolidated Contracting Initiative: The CCI initiative emphasizes developing, using, and sharing contracts to meet Agency objectives.

Performance-Based Contracting: This initiative requires structuring all aspects of an acquisition around the purpose of the work to be performed as opposed to how the work is to be performed or broad and imprecise statements of work. It emphasizes quantifiable, measurable performance requirements and quality standards in developing statements of work, selecting contractors, determining contract type, incentives, and performing contract administration, including surveillance.

Award Term Initiative: This initiative will test a non-traditional method of motivating and rewarding contractor performance. Contractors will receive periodic performance evaluations and scores, which can result in an extension of the term of the contract in return for excellent performance.

Tom Luedtke,
Associate Administrator for Procurement.

[FR Doc. 00-32963 Filed 12-26-00; 8:45 am]

BILLING CODE 7510-01-U